DEPARTMENT OF THE INTERIOR

Bureau of Land Management

[LLCACO8000.L19200000.DA0000.LRORBX003800]

Notice of Temporary Restriction of Discharge of Firearms on Public Lands at Kanaka Valley, El Dorado County, CA

AGENCY: Bureau of Land Management, Interior.

ACTION: Notice of temporary use restriction.

SUMMARY: Notice is hereby given that a temporary restriction of use (prohibition of firearms use) is in effect on public lands in the Kanaka Valley administered by the Mother Lode Field Office, Bureau of Land Management.

DATES: This use restriction is effective as of September 24, 2010 and will remain in effect until published supplementary rules supersede this temporary use restriction order or September 23, 2012, whichever occurs first.

FOR FURTHER INFORMATION CONTACT: William Haigh, Field Manager, 5152 Hillsdale Circle, El Dorado Hills, California 95762, (916) 941-3101. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: This temporary use restriction affects public lands at Kanaka Valley in El Dorado County, California. The legal description of the affected public lands is:

NE ¼, SW ¼, NW ¼ of Section 7, excepting all that portion described in the boundary line adjustment grant deed recorded May 14, 2002 document no. 2002-35195. S ½ of the SW ¼ of the SW ¼ of Section 6. N ½ of SW ¼, of the SW ¼ of Section 5. W ½ of the NW ¼ and the NW ¼ of the SW ¼ of Section. 5. NE Fractional ¼ s (Lots 1 and 2) S ½ of the N ½ of Lot 1 of the SW ¼ of Section 6. N ½ of the SE ¼ of Section 6, excepting all that portion described in the boundary line adjustment grant deed recorded November 6, 2002 document no. 2002-85903. Township 10 North, Range 9 East, Mount Diablo Meridian. W ½ of the SE ¼, SE ¼ of the SW ¼ of Section 31, Township 11 North, Range 9 East, Mount Diablo Meridian, excepting all that portion described in the boundary line adjustment grant deed recorded May 14, 2002 document no. 2002-35196. NW ¼ of the NW ¼ of Section 8, Township. 10 North, Range 9 East. Mount Diablo Meridian.

The temporary use restriction is necessary to protect persons, property and public lands. Specifically, this use restriction temporarily prohibits the discharge of firearms to protect persons, property and resources from stray bullets. Discharge of firearms is prohibited as of September 24, 2010 until the completion of the Kanaka Valley management planning process and the publication of final supplementary rules in the Federal Register or until September 23, 2012, whichever occurs first. The recent acquisition of this area by the Bureau of Land Management (BLM) and subsequent increase of use at Kanaka Valley has led to significant safety concerns primarily because of the lack of appropriate visitor management infrastructure (signage, fencing, parking, trails etc) and an activity plan to guide visitor use for Kanaka Valley.

The BLM has posted temporary use restriction signs at main entry points to Kanaka Valley. This restriction order will be posted in the Mother Lode BLM Field Office. Maps of the affected area and other documents associated with this restriction order will be available at cafokvp@blm.gov; 5152 Hillsdale Circle, El Dorado Hills, California 95762, and (916) 941-3101. Under the authority of Section 303(a) of the Federal Land Policy and Management Act of 1976 (43 U.S.C. 1733(a)), 43 CFR 8360.0-7, and 43 CFR 8364.1, the Bureau of Land Management will enforce the following temporary use restrictions within Kanaka Valley: No discharge of firearms.

The following persons are exempt from this order: Federal, state and local officers and employees in the performance of their official duties and persons with written authorization from the BLM.

Any person who violates the above restriction may be tried before a United States Magistrate and fined no more than $1,000, imprisoned for no more than 12 months, or both. Such violations may also be subject to the enhanced fines provided for by 18 U.S.C. 3571.

Authority: 43 U.S.C. 1733(a), 43 CFR 8360.0-7 and 8364.1.

William Haigh,
Field Manager, Mother Lode BLM Field Office.

[FR Doc. 2011-1835 Filed 1-27-11; 8:45 am]

BILLING CODE 4310-40-P